DEPARTMENT OF COMMERCE

National Oceanic and Atmospheric Administration

50 CFR Part 648

[Docket No. 021223329-3112-02; I.D. 121302A]

RIN 0648-AQ26

Fisheries of the Northeastern United States; 2003 Specifications for the Atlantic Bluefish Fishery

AGENCY: National Marine Fisheries Service (NMFS), National Oceanic and Atmospheric Administration (NOAA), Commerce.

ACTION: Final rule.

SUMMARY: NMFS issues 2003 specifications for the Atlantic bluefish fishery, including total allowable harvest levels (TAL), state-by-state commercial quotas, and a recreational harvest limit and possession limit for Atlantic bluefish off the east coast of the United States. The intent of the specifications is to conserve and manage the bluefish resource and provide for sustainable fisheries.

DATES: Effective June 11, 2003, through December 31, 2003.

ADDRESSES: Copies of supporting documents, including the Environmental Assessment (EA) and Regulatory Impact Review (RIR), Final Regulatory Flexibility Analysis (FRFA), and Essential Fish Habitat Assessment (EFHA) are available from: Patricia A. Kurkul, Regional Administrator, Northeast Regional Office, NMFS, One Blackburn Drive, Gloucester, MA 01930-2298. The EA/RIR/FRFA/EFHA are accessible via the Internet at http://www.nero.nmfs.gov.

FOR FURTHER INFORMATION CONTACT: Paul H. Jones, Fishery Policy Analyst, 978-281-9273, fax 978-281-9135, e-mail paul.h.jones@noaa.gov.

SUPPLEMENTARY INFORMATION: Regulations implementing the FMP prepared by the Mid-Atlantic Fishery Management Council (Council) appear at 50 CFR part 648, subparts A and J. Regulations requiring annual specifications are found at § 648.160. The FMP requires that the Council recommend, on an annual basis, TAL, which is comprised of a commercial quota and recreational harvest limit. Proposed 2003 initial bluefish specifications were published on January 6, 2003 (68 FR 533), with a comment period ending January 21, 2003. The final specifications are unchanged from those that were proposed.

Final Specifications

2003 TAL

For the 2003 fishery, the stock rebuilding program in the FMP would restrict the fishing mortality rate (F) to 0.41. However, the 2001 fishery (the most recent fishing year for which F can be calculated) produced an F of only 0.246. In accordance with the FMP, the TAL proposed for 2003 is set to achieve F=0.246. The resulting TAC is 39.5 million lb (17.9 million kg). The TAL is calculated by deducting discards, estimated at 2.2 million lb (0.99 million kg) for 2003, from the TAC. Therefore, the TAL for 2003 is 37.293 million lb (16.916 million kg).

2003 Commercial Quotas and Recreational Harvest Limits

If the TAL for the 2003 fishery were allocated based on the percentages specified in the FMP, the commercial quota would be 6.339 million lb (2.875 million kg), with a recreational harvest limit of 30.953 million lb (10.500 million kg). However, recreational landings from the last several years were much lower than the recreational allocation for 2003, ranging between 8.30 and 15.5 million lb (3.74 and 7.05 million kg). Based upon the last several years of landings, it is estimated that the recreational fishery will not land its 30.953 million-lb (12.153 million-kg) harvest limit in 2003 and, therefore, this allows a commercial quota of up to 10.5 million lb (4.76 million kg) to be specified. This action transfers 4.161 million lb (1.887 million kg) from the 2003 recreational allocation of 30.953 million lb (12.153 million kg), resulting in 26.793 million lb (12.153 million kg) for the 2003 recommended recreational harvest limit, and a proposed commercial quota of 10.5 million lb (4.744 million kg). The 2003 commercial quota would be the same amount as was allocated in 2002 and implemented by NMFS and the states under the Atlantic States Marine Fisheries Commission's Interstate Fishery Management Plan for Atlantic Bluefish. Also implemented is a recreational possession limit of 15 fish per person (same as in 2002) and a 141,900-lb (64,365-kg) research set-aside (RSA).

The 2003 state commercial quotas are listed in the table below, based on the percentages specified in the FMP less the RSA allocation.

State | Percent of Quota | 2003 Commercial Quota (lb) | 2003 Commercial Quota(kg)
ME | 0.6685 | 69,925 | 31,718
NH | 0.4145 | 43,357 | 19,667
MA | 6.7167 | 702,570 | 318,684
RI | 6.8081 | 712,131 | 323,021
CT | 1.2663 | 132,456 | 60,082
NY | 10.3851 | 1,086,286 | 492,736
NJ | 14.8162 | 1,549,782 | 702,977
DE | 1.8782 | 196,461 | 89,114
MD | 3.0018 | 313,990 | 142,425
VA | 11.8795 | 1,242,601 | 563,640
NC | 32.0608 | 3,353,575 | 1,521,172
SC | 0.0352 | 3,682 | 1,670
GA | 0.0095 | 994 | 451
FL | 10.0597 | 1,052,249 | 477,297
Total | 100.0000 | 10,460,058 | 4,744,652

Comments and Responses

One comment was received from a U.S. Congressman from New Jersey on the proposed specifications.

Comment: The commenter opposes the transfer of allocation from the recreational sector to the commercial sector because he believes it is unfair to anglers who endure strict regulations. He believes it fails to reward recreational fishers who do not fully attain their allocation and negates the conservation benefits created by their underharvest of bluefish.

Response: The poundage transfer provision was included in Amendment 1 to the FMP (Amendment 1) to ensure that commercial landings would not be reduced unnecessarily if the recreational fishery is not expected to attain its harvest limit. The FMP stipulates that such a transfer may be made if the recreational fishery is not projected to land its harvest limit for the upcoming year. Recreational landings from the last several years were much lower than the recreational allocation for 2003, ranging between 8.30 and 15.5 million lb (3.74 and 7.05 million kg). Since the recreational fishery is not projected to land its harvest limit in 2003, this allows the specification of a commercial quota of up to 10.5 million lb (4.76 million kg). The TAL for 2003 is 37.293 million lb (16.916 million kg). This is consistent with an F of 0.246 which is actually less than the maximum level of F of 0.410, specified in the FMP as the rebuilding target for 2003. A commercial harvest of 10.5 million lb (4.76 million kg) does not result in overfishing based on the overfishing definition in the FMP. Overfishing occurs when F is greater than Fmsy = 0.4 (the F that produces maximum sustainable yield). Since the stock condition is improving, and the overall TAL maintains a very low F, there is no reason to reduce allowed landings by the commercial sector. The transfer is not constraining to recreational fishermen, since the remaining recreational harvest limit is more than double the average recreational landings over the last several years.

Classification

This final rule has been determined to be not significant for purposes of Executive Order 12866.

NMFS prepared a FRFA for this action. The FRFA includes a summary of the analyses in support of these specifications. A copy of the FRFA is available from NMFS (see ADDRESSES). A summary of the FRFA, which includes the initial regulatory flexibility analysis (IRFA) and applicable sections of the 2003 specifications package, follows:

The reasons why this action is being taken by the agency, and the objectives of this final rule are explained in the preamble to the proposed rule and are not repeated here. This action does not contain any reporting, recordkeeping, or other compliance requirements. This action is taken under authority of the Magnuson-Stevens Act and regulations at 50 CFR part 648.

One comment was submitted on the proposed rule, but it was not specific to the IRFA. NMFS has responded to the comment in the Comments and Responses section of the preamble to this final rule. No changes were made to the proposed rule as a result of the comment received.

Commercial landings for bluefish are reported from Maine through North Carolina through NMFS Northeast dealer reports, and from South Carolina through Florida through a state trip ticket commercial landings reporting program. An active participant in the commercial sector was defined as being any vessel that reported having landed one or more pounds of bluefish during calendar year 2001. All vessels are considered to be small entities. Of the active vessels in 2001, 846 landed bluefish from Maine to North Carolina. The dealer data do not cover vessel activity in the South Atlantic. State trip ticket report data indicate that 1,092 vessels landed bluefish in North Carolina. Bluefish landings in South Carolina and Georgia represented less than 1/10 of 1 percent of total landings. Therefore, the analysis assumed that no vessels from those states would be affected by this proposed action. In addition, 214 vessels landed bluefish to dealers on Florida's east coast in 2001. In recent years, approximately 2,063 party/charter vessels caught bluefish.

The Council analyzed three TAL alternatives. The preferred alternative examined the impacts on the industry that would result from a TAL of 37.293 million lb (16.916 million kg), allocated to the commercial sector (10.460 million lb (4.74 million kg)) and recreational sector (26.691 million lb (12.107 million kg)), with an RSA of 141,900 million lb (64,356 kg). Alternative 2 considered a TAL of 37.293 million lb (16.916 million kg), allocated to the commercial sector (6.315 million lb (2.864 million kg) and recreational sector (30.835 million lb (13.986 million kg)), with an RSA of 141,900 lb (64,365 kg). Alternative 3 provides for a lower commercial quota and higher recreational quota than Alternative 1. Starting from the same TAL of 37.293 million lb (16.916 million kg), the commercial quota in this alternative is 9.546 million lb (4.329 million kg), and the recreational quota is 27.604 million lb (12.521 million kg), with an RSA of 141,900 lb (64,365 kg).

On a coastwide basis, the preferred alternative would allow for less than a 1-percent decrease in total allowable commercial landings for bluefish in 2003 versus the 2002 commercial quota, due to the amount specified for the RSA. The 2003 recreational harvest limit would be 63 percent higher than the estimated recreational landings in 2002. According to dealer data, 650 federally permitted commercial vessels would be expected to incur revenue losses of less than 5 percent and 193 commercial vessels would incur revenue gains of 24 percent. The revenue increase expected in 2003 are primarily due to the fact that the New York quota was adjusted downward in 2002 due to overages in 2001. Thus, New York shows a positive proportional change in quota from 2002 to 2003 (see section 5.1.3 of the RIR/FRFA). In addition, economic analysis of South Atlantic Trip Ticket Report data indicated that changes in quota levels from 2002 to 2003 are expected to result in small reductions in revenue for fishermen that land bluefish in North Carolina (1.44 percent) and minimal reductions for fishermen that land bluefish in Florida (0.07 percent).

Alternative 2 would result in a 40-percent decrease in the total allowable commercial landings for bluefish in 2003 versus 2002. The 2003 recreational harvest limit would be 88 percent higher than the estimated recreational landings in 2002. Under this scenario, according to Northeast dealer data, a total of 103 commercial vessels would incur revenue losses of 5 to 39 percent, and 740 commercial vessels would incur revenue losses of less than 5 percent of their total ex-vessel revenue. Also, evaluation of South Atlantic Trip Ticket Reports indicate an average of 6.1 and 0.03-percent reductions in revenue for fishermen that land bluefish in North Carolina and Florida, respectively.

Alternative 3 would result in a 9-percent decrease in the total allowable commercial landings for bluefish in 2003 versus 2002. The 2003 recreational harvest limit would be 69 percent higher than the estimated recreational landings in 2002. Under this scenario, based on Northeast dealer data, a total of 28 commercial vessels would incur revenue losses from 5 to 10 percent, 626 commercial vessels would incur revenue losses of less than 5 percent and 189 commercial vessels would incur an increase in revenue of 14 percent. The revenue increase for these 189 vessels expected in 2003 is primarily due to the fact that the New York quota was adjusted downward in 2002 due to overages in 2001. Thus, New York shows a positive proportional change in quota from 2002 to 2003 (see section 5.3.3 of the RIR/FRFA). Also, evaluation of South Atlantic Trip Ticket Reports indicate reduction in revenues of 1.44 and 0.07-percent for fishermen that land bluefish in North Carolina and Florida, respectively.

The Council further analyzed the impacts on revenues of the proposed RSA amount for all three alternatives. The social and economic impacts of this proposed RSA are minimal. Assuming the full RSA is allocated for bluefish, the set-aside amount could be worth as much as $45,480 dockside, based on a 2001 price of $0.32 per pound. Assuming an equal reduction among all 834 active dealer reported vessels, this could mean a reduction of about $55 per individual vessel. Changes in the recreational harvest limit would be insignificant (less than 1 percent decrease), if 2 percent of the TAL is used for research. It is unlikely that there would be negative impacts. A copy of this analysis is available from the Regional Administrator (see ADDRESSES) and is also available at the following web site: http://www.nero.noaa.gov.

Authority: 16 U.S.C. 1801 et seq.

Dated: May 6, 2003.
Rebecca Lent,
Deputy Assistant Administrator for Regulatory Programs, National Marine Fisheries Service.

[FR Doc. 03-11739 Filed 5-9-03; 8:45 am]

BILLING CODE 3510-22-S